DEPARTMENT OF ENERGY

Federal Energy Regulatory Commission

Combined Notice of Filings # 1

October 22, 2009.

Take notice that the Commission received the following electric corporate filings:

Docket Numbers: EC10-7-000.

Applicants: Covanta Holding Corporation, Covanta Plymouth Renewable Energy Limited, ESI Montgomery County, LLC.

Description: Joint Application for Authorization of Disposition of Facilities under Section 203 of the Federal Power Act and Requests for Expedited Consideration, Confidential Treatment and Waivers.

Filed Date: 10/21/2009.

Accession Number: 20091021-5088.

Comment Date: 5 p.m. Eastern Time on Thursday, November 12, 2009.

Take notice that the Commission received the following electric rate filings:

Docket Numbers: ER02-1437-007.

Applicants: Triton Power Michigan LLC.

Description: Triton Power Michigan LLC's response to the Commission Staff informal request supplements it's 6/30/09 filing adding additional language to its Market Based Rate Tariff Sheets.

Filed Date: 10/14/2009.

Accession Number: 20091019-0052.

Comment Date: 5 p.m. Eastern Time on Wednesday, November 4, 2009.

Docket Numbers: ER04-208-007; ER07-589-004.

Applicants: Citigroup Energy Canada ULC, Citigroup Energy Inc.

Description: CEI and CECU Notice of Change in Status.

Filed Date: 10/21/2009.

Accession Number: 20091021-5091.

Comment Date: 5 p.m. Eastern Time on Thursday, November 12, 2009.

Docket Numbers: ER04-170-008.

Applicants: MxEnergy Electric Inc.

Description: MXenergy Electric Inc. Notice of Change in Status.

Filed Date: 10/22/2009.

Accession Number: 20091022-5083.

Comment Date: 5 p.m. Eastern Time on Thursday, November 12, 2009.

Docket Numbers: ER09-1180-003.

Applicants: Entergy Services, Inc.

Description: Entergy Service, Inc submits response to the Commission's 10/6/09 deficiency letter issued.

Filed Date: 10/21/2009.

Accession Number: 20091021-4002.

Comment Date: 5 p.m. Eastern Time on Thursday, November 12, 2009.

Docket Numbers: ER10-74-000.

Applicants: Midwest Independent Transmission System Operator, Inc.

Description: Midwest Independent Transmission System Operator, Inc submits proposed classifications for certain Grandfathered Agreements of Dairyland Power Cooperative.

Filed Date: 10/16/2009.

Accession Number: 20091019-0093.

Comment Date: 5 p.m. Eastern Time on Friday, November 6, 2009.

Docket Numbers: ER10-78-000.

Applicants: Orange Grove Energy, L.P.

Description: Application of Orange Grove Energy, LP for order accepting initial market-based rate tariffs, waiving regulations, and granting blanket approvals.

Filed Date: 10/20/2009.

Accession Number: 20091022-0287.

Comment Date: 5 p.m. Eastern Time on Tuesday, November 10, 2009.

Docket Numbers: ER10-80-000.

Applicants: Three Buttes Windpower, LLC.

Description: Application of Three Buttes Windpower, LLC for market based rate authority.

Filed Date: 10/20/2009.

Accession Number: 20091022-0288.

Comment Date: 5 p.m. Eastern Time on Tuesday, November 10, 2009

Docket Numbers: ER10-83-000.

Applicants: Westar Energy, Inc.

Description: Kansas Gas and Electric Company submits a Notice of Termination of Service Schedules for Reserve Capacity and Maintenance and Emergency Support under an Electric Power Transmission and Service etc.

Filed Date: 10/20/2009.

Accession Number: 20091021-0041.

Comment Date: 5 p.m. Eastern Time on Tuesday, November 10, 2009.

Docket Numbers: ER10-84-000.

Applicants: Westar Energy, Inc.

Description: Kansas Gas and Electric Company submits a Notice of Cancellation of an Electric Power, Transmission and Service Contract between KGE and Kansas Electric Power Cooperative, Inc.

Filed Date: 10/21/2009.

Accession Number: 20091021-0042.

Comment Date: 5 p.m. Eastern Time on Thursday, November 12, 2009.

Docket Numbers: ER10-85-000.

Applicants: Westar Energy, Inc.

Description: Westar Energy Inc submits notice of cancellation of an Electric Power Supply Agreement between Westar and the City of Osage City.

Filed Date: 10/20/2009.

Accession Number: 20091021-0043.

Comment Date: 5 p.m. Eastern Time on Tuesday, November 10, 2009.

Docket Numbers: ER10-88-000.

Applicants: E.ON U.S. LLC.

Description: Louisville Gas and Electric Company et al. submits Original Sheet et al. to First Revised Rate Schedule FERC No 501 to be effective 10/22/09 under ER10-88.

Filed Date: 10/21/2009.

Accession Number: 20091022-0333.

Comment Date: 5 p.m. Eastern Time on Thursday, November 12, 2009.

Docket Numbers: ER10-89-000.

Applicants: The Empire District Electric Company.

Description: Compliance Filing of The Empire District Electric Company.

Filed Date: 10/19/2009.

Accession Number: 20091019-5113.

Comment Date: 5 p.m. Eastern Time on Monday, November 9, 2009.

Take notice that the Commission received the following electric securities filings:

Docket Numbers: ES10-4-001.

Applicants: Trans Bay Cable LLC.

Description: Amendment to Application for Authority to Issue Securities of Trans Bay Cable LLC.

Filed Date: 10/21/2009.

Accession Number: 20091021-5092.

Comment Date: 5 p.m. Eastern Time on Monday, November 2, 2009.

Docket Numbers: ES10-6-000.

Applicants: Carolina Power & Light Company.

Description: Section 204 Application of Carolina Power & Light Company d/b/a Progress Energy Carolinas, Inc.

Filed Date: 10/22/2009.

Accession Number: 20091022-5095.

Comment Date: 5 p.m. Eastern Time on Thursday, November 12, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-26251 Filed 10-30-09; 8:45 am]

BILLING CODE 6717-01-P